DEPARTMENT OF AGRICULTURE

Agricultural Marketing Service

[Doc. No. AMS-NOP-15-0086; NOP-15-17]

National Organic Standards Board (NOSB): Notice of Intent To Renew Charter and Call for Nominations

AGENCY: Agricultural Marketing Service, USDA.

ACTION: Notice: Intent to renew Charter and call for nominations.

SUMMARY: The National Organic Standards Board (NOSB) was established to assist in the development of standards for substances to be used in organic production and to advise the Secretary on the implementation of the Organic Foods Production Act of 1990 (OFPA). Through this Notice, USDA is announcing the following: its intent to renew the Charter of the NOSB, which expires on May 8, 2016; its call for nominations to fill five (5) upcoming vacancies for appointments in 2017, and its call for nominations for a pool of candidates to fill future unexpected vacancies in any of the position categories should that occur.

DATES: The current NOSB Charter expires on May 8, 2016. Written nominations must be postmarked on or before June 3, 2016.

ADDRESSES: Nomination applications can be sent via email to Michelle Arsenault at Michelle.Arsenault@ams.usda.gov, or mailed to: USDA-AMS-NOP, 1400 Independence Avenue SW., Room 2642-S., Ag Stop 0268, Washington, DC 20250-0268. Electronic submittals are preferred.

FOR FURTHER INFORMATION CONTACT: Michelle Arsenault, (202) 720-0081; Email: Michelle.Arsenault@ams.usda.gov;

SUPPLEMENTARY INFORMATION: The OFPA of 1990, as amended (7 U.S.C. Section 6501 et seq.), requires the Secretary to establish an organic certification program for producers and handlers of agricultural products that have been produced using organic methods. The OFPA includes the requirement that the Secretary establish a NOSB in accordance with the Federal Advisory Committee Act (FACA) (5 U.S.C. App. 2 et seq.). The purpose of the NOSB is to assist in the development of a proposed National List of Allowed and Prohibited Substances and to advise the Secretary on the implementation of the OFPA.

Pursuant to the FACA, notice is hereby given that the Secretary of Agriculture intends to renew the NOSB Charter for two years. The NOSB is of a continuing nature due to the changes in organic production and marketing brought about through advancements in science and technology.

The NOSB is composed of 15 members including; four individuals who own or operate an organic farming operation, two individuals who own or operate an organic handling operation; one individual who owns or operates a retail establishment with significant trade in organic products; three individuals with expertise in areas of environmental protection and resource conservation; three individuals who represent public interest or consumer interest groups; one scientist with expertise in the fields of toxicology, ecology, or biochemistry; and one individual who is a certifying agent. Through this Notice, the USDA seeks to fulfill two goals: Firstly, it is seeking nominations to fill five (5) upcoming vacancies for the following positions: One (1) organic producer; one (1) individual with expertise in areas of environmental protection and resource conservation; one (1) representative of a public or consumer interest group; one (1) organic handler or processor; and one (1) scientist (toxicology, ecology or biochemistry). The Secretary of Agriculture will appoint one person to each of these five positions to serve a 5-year term of office beginning January 24, 2017, and ending January 23, 2022. Secondly, the USDA is seeking nominations to fill future unexpected vacancies in any of the position categories. These nominations will be held as a pool of candidates that the Secretary of Agriculture can draw upon as replacement appointees if unexpected vacancies occur. A person appointed to fill a vacancy will serve for the remainder of the 5-year term of the vacant position.

As per the OFPA, individuals seeking appointment to the NOSB must meet the definition of the position that they seek as identified under section 6518 of this title, as well as satisfy the selection criteria for an NOSB member.

Selection criteria include the following: An understanding of organic principles and practical experience in the organic community; demonstrated experience and interest in organic production and organic certification; demonstrated experience with respect to agricultural products produced and handled on certified organic farms; a commitment to the integrity of the organic food and fiber industry; demonstrated experience in the development of public policy such as participation on public or private advisory boards, boards of directors or other comparable organizations; support of consumer and public interest organizations; participation in standards development or involvement in educational outreach activities; the ability to evaluate technical information and to fully participate in Board deliberation and recommendations; the willingness to commit the time and energy necessary to assume Board duties; and other such factors as may be appropriate for specific positions.

To nominate yourself or someone else, please submit the following: a resume (required), Form AD-755 (required), which can be accessed at: http://www.usda.gov/documents/OCIO_AD_755_Master_2012.pdf, a cover letter, and a list of endorsements or letters of recommendation (optional). Resumes must be no longer than 5 pages, and should include a summary of the following information: Current and past organization affiliations; areas of expertise; education; career positions held; any other notable positions held.

If USDA receives a request under the Freedom of Information Act (FOIA) (5 U.S.C. 552), for records relating to NOSB nominations, your application materials may be released to the requester. Prior to the release of the information, personally identifiable information protected by the FOIA Privacy Act will be redacted.

Nominations are open to all individuals without regard to race, color, religion, gender, national origin, age, mental or physical disability, marital status, or sexual orientation. To ensure that the recommendations of the NOSB take into account the needs of the diverse groups that are served by the Department, membership on the NOSB shall include, to the extent practicable, individuals with demonstrated ability to represent minorities, women, and persons with disabilities.

The information collection requirements concerning the nomination process have been previously cleared by the Office of Management and Budget (OMB) under OMB Control No. 0505-0001.

Dated: March 30, 2016.
Elanor Starmer,
Administrator, Agricultural Marketing Service.

[FR Doc. 2016-07616 Filed 4-1-16; 8:45 am]

BILLING CODE 3410-02-P